FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than July 8, 2022.

A. Federal Reserve Bank of New York (Ivan Hurwitz, Senior Vice President) 33 Liberty Street, New York, New York 10045-0001. Comments can also be sent electronically to Comments.applications@ny.frb.org:

1. Mr. Felix Scherzer, Scherzer Capital, LLC, and the Scherzer Family Trust, Tanya Scherzer, as trustee, all of Purchase, New York; a group acting in concert to acquire voting shares of Patriot National Bancorp, Inc., and thereby indirectly acquire voting shares of Patriot National Bank, both of Stamford, Connecticut.

B. Federal Reserve Bank of Minneapolis (Chris P. Wangen, Assistant Vice President), 90 Hennepin Avenue, Minneapolis, Minnesota 55480-0291; or electronically to MA@mpls.frb.org:

1. The Willard and Geraldine Ogren Revocable Trust and the Greg Ogren Descendants Separate Trust, Greg Ogren, individually, and as trustee, the Scott Ogren Descendants Separate Trust, Scott Ogren, individually, and as trustee, and Lori Ogren, all of Iron River, Wisconsin; and the Mark Ogren Descendants Separate Trust, Mark Ogren, individually, and as trustee, both of Minnetrista, Minnesota; a group acting in concert to retain voting shares of Security Bank Shares, Inc., and thereby indirectly retain voting shares of Security State Bank, both of Iron River, Wisconsin, and Security Bank, New Auburn, Wisconsin.

C. Federal Reserve Bank of Dallas (Karen Smith, Director, Applications) 2200 North Pearl Street, Dallas, Texas 75201-2272:

1. The Terry L. Chandler Trust, Doug Chandler, as trustee, both of Carlsbad, New Mexico; to retain voting shares of First Artesia Bancshares, Inc., and thereby indirectly retain voting shares of First American Bank, both of Artesia, New Mexico.

Board of Governors of the Federal Reserve System.
Michele Taylor Fennell,
Deputy Associate Secretary of the Board.

[FR Doc. 2022-13358 Filed 6-22-22; 8:45 am]

BILLING CODE P